DEPARTMENT OF TRANSPORTATION

Federal Aviation Administration

14 CFR Part 71

[Airspace Docket No. 01-AGL-15]

Modification of Class E Airspace; Mount Vernon, OH

AGENCY: Federal Aviation Administration (FAA), DOT.

ACTION: Direct final rule; confirmation of effective date.

SUMMARY: This document confirms the effective date of a direct final rule which modifies the Class E Airspace, Mount Vernon, OH.

EFFECTIVE DATE: The direct final rule published at 67 FR 10838 is effective 0901 UTC, August 8, 2002.

FOR FURTHER INFORMATION CONTACT: Denis C. Burke, Airspace Branch, AGL-520, Air Traffic Division, Federal Aviation Administration, 2300 East Devon Avenue, Des Plaines, Illinois 60018, telephone (847-294-7568).

SUPPLEMENTARY INFORMATION: The FAA published this direct final rule with a request for comments in the Federal Register on Monday, March 11, 2002, (67 FR 10838). The FAA uses the direct final rulemaking procedure for a noncontroversial rule where the FAA believes that there will be no adverse public comment. This direct final rule advised the public that no adverse comments were anticipated, and that unless a written adverse comment, or a written notice of intent to submit such an adverse comment, were received within the comment period, the regulation would become effective on August 8, 2002. No adverse comments were received, and, thus, this action confirms that this direct final rule will be effective on that date.

Issued in Des Plaines, Illinois on May 24, 2002.
Nancy B. Shelton,
Manager, Air Traffic Division, Great Lakes Region.

[FR Doc. 02-14986 Filed 6-12-02; 8:45 am]

BILLING CODE 4910-13-M